DEPARTMENT OF TRANSPORTATION

Federal Aviation Administration

Thirty-Sixth Meeting: Special Committee (224) Airport Security Access Control Systems

AGENCY: Federal Aviation Administration (FAA), U.S. Department of Transportation (DOT).

ACTION: Notice of Thirty-Sixth Special Committee 224 Meeting.

SUMMARY: The FAA is issuing this notice to advise the public of the thirty-sixth Special Committee 224 meeting.

DATES: The meeting will be held October 29th from 10:00 a.m.-3:00 p.m.

ADDRESSES: The meeting will be held at RTCA, Inc., 1150 18th Street NW., Suite 450, Washington, DC 20036, Tel: (202) 330-0680.

FOR FURTHER INFORMATION CONTACT: The RTCA Secretariat, 1150 18th Street NW., Suite 910, Washington, DC 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of Special Committee 224. The agenda will include the following:

Thursday, October 29, 2015

1. Welcome/Introductions/Administrative Remarks

2. Review/Approve Previous Meeting Summary

3. Report from the TSA

4. Report on Safe Skies on Document Distribution

5. Review of FRAC comments/worksheet and committee resolution of comments

6. Approve release of DO-230 F to go to PMC

7. Review of Other DO-230G Sections

8. Action Items for Next Meeting

9. Time and Place of Next Meeting

10. Any Other Business

11. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 30, 2015.
Latasha Robinson,
Management & Program Analyst, Next Generation, Enterprise Support Services Division, Federal Aviation Administration.

[FR Doc. 2015-25402 Filed 10-7-15; 8:45 am]

BILLING CODE 4910-13-P